DEPARTMENT OF TRANSPORTATION

Federal Aviation Administration

14 CFR Part 71

Proposed Modification of the Minneapolis, MN, Class B Airspace Area; Public Meetings

AGENCY: Federal Aviation Administration (FAA), DOT.

ACTION: Notice of meetings.

SUMMARY: This notice announces four fact-finding informal airspace meetings to solicit information from airspace users and others concerning a proposal to revise the Class B airspace area at Minneapolis, MN. The purpose of these meetings is to provide interested parties an opportunity to present views, recommendations, and comments on the proposal. All comments received during these meetings will be considered prior to any revision or issuance of a notice of proposed rulemaking.

DATES: The informal airspace meetings will be held on Friday, March 18, 2011, from 2:30 p.m.-4 p.m.; Saturday, March 19, 2011, from 8:30 a.m.-11 a.m.; Monday, March 21, 2011, from 7:30 p.m.-9 p.m., and Tuesday, March 22, 2011, from 7:30 p.m.-9 p.m. Comments must be received on or before May 6, 2011.

ADDRESSES: (1) The meeting on Friday, March 18, 2011, will be held at the Metropolitan Airports Commission (MAC), 6040 28th Avenue, South, Minneapolis, MN 55450. (2) The meeting on Saturday, March 19, 2011, will be held at the In Flight Pilot Training, LLC., 10,000 Flying Cloud Drive, Eden Prairie, MN 55347. (3) The meeting on Monday, March 21, 2011, will be held at the Minnesota Army National Guard, Aviation Facility, 206 Airport Road, St. Paul, MN 55107. (4) The meeting on Tuesday, March 22, 2011, will be held at the Metropolitan Airports Commission (MAC), 6040 28th Avenue, South, Minneapolis, MN 55450.

Comments: Send comments on the proposal, in triplicate, to: Anthony D. Roetzel, Manager, Operations Support Group, AJV-C2, Central Service Center, Air Traffic Organization, FAA Southwest Regional Office, 2601 Meacham Boulevard, Fort Worth, TX 76137.

FOR FURTHER INFORMATION CONTACT: To obtain details, including a graphic depiction regarding this proposal, please contact Jim Shadduck, FAA Support Manager, Minneapolis Airport Traffic Control Tower, 6311 34th Avenue, South, Minneapolis, MN 55450; telephone: (612) 713-4065.

SUPPLEMENTARY INFORMATION:

Meeting Procedures:

(a) Doors open 30 minutes prior to the beginning of each meeting. The meetings will be informal in nature and will be conducted by one or more representatives of the FAA Central Service Center. A representative from the FAA will present an informal briefing on the planned modification to the Class B airspace at Minneapolis, MN. Following the briefing, each attendee will be given an opportunity to deliver comments or make a presentation, although a time limit may be imposed. Only comments concerning the plan to modify the Class B airspace area at Minneapolis, MN, will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded. However, a summary of comments made at the meeting will be filed in the docket.

Agenda for the Meetings

—Sign-in.

—Presentation of meeting procedures.

—FAA briefing of the proposed Class B airspace area modifications.

—Solicitation of public comments.

—Closing comments.

Issued in Washington, DC, on December 21, 2010.
Edith V. Parish,
Manager, Airspace, Regulations and ATC Procedures Group.

[FR Doc. 2010-33305 Filed 1-4-11; 8:45 am]

BILLING CODE 4910-13-P